DEPARTMENT OF THE TREASURY

Submission for OMB Review; Comment Request

February 5, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 24, 2003 to be assured of consideration.

Financial Crimes Enforcement Network (FinCEN)

OMB Number: 1506-0005.

Form Number: FinCEN 103 (IRS Form 8362).

Type of Review: Revision.

Title: Currency Transaction Reports by Casinos.

Description: Casinos file Form 103 for currency transactions in excess of $10,000 a day pursuant to 31 U.S.C. 5313(a) and 31 CFR 103.22(a)(2). The form is used by criminal investigators, and taxation and regulatory enforcement authorities, during the course of investigations involving financial crimes.

Respondents: Business or other for-profit, Federal Government.

Estimated Number of Respondents/Recordkeepers: 550.

Estimated Burden Hours Per Respondent/Recordkeeper: 24 minutes.

Estimated Total Reporting/Recordkeeping Burden: 79,200 hours.

Clearance Officer: Steve Rudzinski (703) 905-3845, Financial Crimes Enforcement Network, 2070 Chain Bridge Road, Suite 200, Vienna, VA 22182.

OMB Reviewer: Joseph F. Lackey, Jr. (202) 395-7316, Office of Management and Budget, Room 10235, New Executive Office Building, Washington, DC 20503.

Lois K. Holland,
Departmental Reports, Management Officer.

[FR Doc. 03-4035 Filed 2-19-03; 8:45 am]

BILLING CODE 4810-02-P